DEPARTMENT OF AGRICULTURE

Grain Inspection, Packers and Stockyards Administration

Opportunity for Designation in Texas

AGENCY: Grain Inspection, Packers and Stockyards Administration, USDA.

ACTION: Notice and Request for Applications.

SUMMARY: The Grain Inspection, Packers and Stockyards Administration (GIPSA) is providing services in east Texas on an interim basis. GIPSA is asking persons interested in providing official services in all or part of the unassigned areas of Texas to submit an application for designation.

DATES: Applications must be postmarked or electronically dated on or before October 29, 2008.

ADDRESSES: We invite you to submit applications and comments on this notice. You may submit applications and comments by any of the following methods:

• To apply for designation, go to “FGIS online” at https://fgis.gipsa.usda.gov/default_home_FGIS.aspx then select Delegations/Designations and Export Registrations (DDR). You will need an E-authentication username, password, and a customer number prior to applying.

• Hand Delivery or Courier: Karen Guagliardo, Review Branch Chief, Compliance Division, GIPSA, USDA, Room 1647-S, 1400 Independence Avenue, SW., Washington, DC 20250.

• Fax: (202) 690-2755, to the attention of Karen Guagliardo.

• E-mail: Karen.W.Guagliardo@usda.gov.

• Mail: Karen Guagliardo, Review Branch Chief, Compliance Division, GIPSA, USDA, STOP 3604, 1400 Independence Avenue, SW., Washington, DC 20250-3604.

• Internet: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: This action has been reviewed and determined not to be a rule or regulation as defined in Executive Order 12866 and Departmental Regulation 1512-1; therefore, the Executive Order and Departmental Regulation do not apply to this action.

Section 7(f)(1) of the United States Grain Standards Act (Act) (7 U.S.C. 71-87k) authorizes GIPSA's Administrator to designate a qualified applicant to provide official services in a specified area after determining that the applicant is better able than any other applicant to provide such official services.

Section 7(g)(1) of the Act provides that designations of official agencies shall end not later than triennially and may be renewed according to the criteria and procedures prescribed in Section 7(f) of the Act.

GIPSA is asking for applicants to provide official services in unassigned areas of Texas. Pursuant to Section (7)(2) of the Act, the area being considered for assignment to the applicant or applicants selected for designation in Texas is as follows:

Bounded on the north by the northern Young, Jack, Montague, Cooke, Grayson, Fannin, Lamar, Red River, Morris, and Marion County lines east to the Texas State line;

Bounded on the east by the eastern Texas State line south to the southern Shelby County line;

Bounded on the south by the southern Shelby, Rusk, Smith, Henderson, Navarro, Hill, Bosque, Hamilton, and Mills County lines west to the western Mills county line;

Bounded on the west by the western Mills, Comanche, Eastland, Stephens, and Young County lines north to the northern Young County line.

Opportunity for designation. Interested persons are hereby given the opportunity to apply for designation to provide official services in the geographic areas specified above under the provisions of Section 7(f) of the Act and section 800.196(d) (7 CFR 800.196(d)) of the regulations. Designation in the specified geographic areas is for a period of no more than 3 years. To apply for designation, contact the Compliance Division at the address listed above for forms and information, or obtain applications at the GIPSA Web site, http://www.gipsa.usda.gov. Applications, comments, and other available information will be considered in determining which applicant will be designated.

Authority: 7 U.S.C. 71-87k.

James E. Link,
Administrator, Grain Inspection, Packers and Stockyards Administration.

[FR Doc. E8-22870 Filed 9-26-08; 8:45 am]

BILLING CODE 3410-KD-P